DEPARTMENT OF HOMELAND SECURITY

Coast Guard

33 CFR Part 165

[Docket No. USCG-2018-0621]

RIN 1625-AA00

Safety Zone: Red, White and Tahoe Blue Fireworks, Incline Village, NV

AGENCY: Coast Guard, DHS.

ACTION: Notice of enforcement of regulation.

SUMMARY: The Coast Guard will enforce the safety zone for Red, White and Tahoe Blue Fireworks display in the Captain of the Port, San Francisco area of responsibility during the dates and times noted below. This action is necessary to ensure the safety of vessels, spectators and participants from hazards associated with fireworks. During the enforcement period, unauthorized persons or vessels are prohibited from entering into, transiting through, or anchoring in the safety zone, unless authorized by the Patrol Commander (PATCOM).

DATES: The regulations in 33 CFR 165.1191, Table 1, Item number 19, will be enforced from 7:30 a.m. on July 3, 2018 through 10:30 p.m. on July, 4, 2018.

FOR FURTHER INFORMATION CONTACT: If you have questions about this notice of enforcement, call or email Lieutenant Junior Grade Emily Rowan, U.S. Coast Guard Sector San Francisco; telephone (415) 399-7443 or email at D11-PF-MarineEvents@uscg.mil.

SUPPLEMENTARY INFORMATION: The Coast Guard will enforce a safety zone during the loading and transit of the fireworks support pontoon vessel and fireworks barge, until completion of the fireworks display. From 7:30 a.m. to 8:30 a.m. on July 3, 2018, the fireworks support pontoon vessel will be loaded at Ivgid Boat Launch in the vicinity of Incline Beach, near Incline Village, NV and will transit from Ivgid Boat Launch to the display location at approximate position 39°14′13″ N, 119°57′01″ W (NAD 83), the safety zone will encompass the navigable waters around and under the fireworks support pontoon vessel within a radius of 100 feet. From 8:30 a.m. to 5:30 p.m. on July 3, 2018 the fireworks barge will be loaded at approximate position 39°14′13″ N, 119°57′ 01″ W (NAD 83) where it will remain until the commencement of the fireworks display. Upon the commencement of the 18-minute fireworks display, scheduled to start at approximately 9:30 p.m. on July 4, 2018, the safety zone will increase in size to encompass the navigable waters around and under the fireworks barges within a radius of 1,000 feet at approximate position 39°14′13″ N, 119°57′01″ W (NAD 83) for the Red, White, and Tahoe Blue Fireworks, Incline Village, NV in 33 CFR 165.1191, Table 1, Item number 19. This safety zone will be in effect from 7:30 a.m. on July 3, 2018 until 10:30 p.m. on July 4, 2018.

Under the provisions of 33 CFR 165.1191, unauthorized persons or vessels are prohibited from entering into, transiting through, or anchoring in the safety zone during all applicable effective dates and times, unless authorized to do so by the PATCOM. Additionally, each person who receives notice of a lawful order or direction issued by an official patrol vessel shall obey the order or direction. The PATCOM is empowered to forbid entry into and control the regulated area. The PATCOM shall be designated by the Commander, Coast Guard Sector San Francisco. The PATCOM may, upon request, allow the transit of commercial vessels through regulated areas when it is safe to do so.

This notice of enforcement is issued under authority of 33 CFR 165.1191 and 5 U.S.C. 552 (a). In addition to this notice of enforcement in the Federal Register, the Coast Guard will provide the maritime community with extensive advance notification of the safety zone and its enforcement period via the Local Notice to Mariners.

If the Captain of the Port determines that the regulated area need not be enforced for the full duration stated in this notice of enforcement, a Broadcast Notice to Mariners may be used to grant general permission to enter the regulated area.

Dated: June 27, 2018.
Anthony J. Ceraolo,
Captain, U.S. Coast Guard, Captain of the Port, San Francisco.

[FR Doc. 2018-14268 Filed 7-2-18; 8:45 am]

BILLING CODE 9110-04-P